DEPARTMENT OF COMMERCE

Foreign-Trade Zones Board

[Docket 9-2004]

Foreign-Trade Zone 24—Pittston, PA; Application for Expansion

An application has been submitted to the Foreign-Trade Zones (FTZ) Board (the Board) by the Eastern Distribution Center, Inc., grantee of Foreign-Trade Zone 24, requesting authority to expand FTZ 24 to include an additional site in the Pittston, Pennsylvania, area, within the Wilkes-Barre/Scranton Customs port of entry. The application was submitted pursuant to the provisions of the Foreign-Trade Zones Act, as amended (19 U.S.C. 81a-81u), and the regulations of the Board (15 CFR part 400). It was formally filed on March 11, 2004.

FTZ 24 was approved on October 21, 1976 (Board Order 112, 41 FR 47288, 10/28/76). The zone project currently consists of a 42-acre site within the 265-acre Eastern Distribution Center, located midway between Scranton and Wilkes-Barre, adjacent to the Wilkes-Barre/ Scranton International Airport.

The applicant is now requesting authority to expand the general-purpose zone to include an additional site in the area: Proposed Site 2 consists of 1,076 acres (2 parcels) within a 1,303-acre site (excluding the areas that are zoned S-1 (Special Purpose) (227 acres)): Proposed Site 2A (944 acres)—Valley View Business Park, located along Route 6 at the Route 247 interchange in the Boroughs of Jessup and Archbald; and, Proposed Site 2B (132 acres)—Jessup Small Business Center, located at the intersection of Route 6 and Route 247 on Sunnyside Road in the Borough of Jessup. The property is owned by the Scranton Lackawanna Industrial Building Company. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street NW., Washington, DC 20005; or

2. Submissions via the U.S. Postal Service: Foreign-Trade Zones Board, U.S. Department of Commerce, FCB—Suite 4100W, 1401 Constitution Avenue NW., Washington, DC 20230.

The closing period for their receipt is May 21, 2004. Rebuttal comments in response to material submitted during the foregoing period may be submitted during the subsequent 15-day period (to June 7, 2004).

A copy of the application and accompanying exhibits will be available for public inspection at the Office of the Foreign-Trade Zones Board's Executive Secretary at the first address listed above, and at the Office of the Eastern Distribution Center, Inc., 1151 Oak Street, Pittston, PA 18640.

Dated: March 12, 2004.
Dennis Puccinelli,
Executive Secretary.

[FR Doc. 04-6345 Filed 3-19-04; 8:45 am]

BILLING CODE 3510-DS-P